FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

Ocean Blue Express, Inc., 1225 W. 190th Street, Gardena, CA 90248, Officers: Sung Ho Sun, President, (Qualifying Individual).

WP Logistics Inc. dba F.C.C. Logistics Inc., 13025 Cerise Ave., Hawthorne, CA 90250, Officer: Cindy Yamamoto, Secretary, (Qualifying Individual).

LCL Shipping USA, Inc. dba Cargo Planet Logistics, 15117 S. Broadway Street, Gardena, CA 90248, Officer: Tim Mao, CEO, (Qualifying Individual).

Non-Vessel Operating Common Carrier and Ocean Freight Forwarder Transportation Intermediary Applicants

Bacarella Transportation Services, Inc., dba BTX Sea Freight, 731 Main Street, Monroe, CT 06468, Officer: Rosario Bacarella, President, (Qualifying Individual).

UT Freight Forwarders Ltd., 161-15 Rockaway Blvd., Jamaica, NY 11434, Officer: Franky Ying K. Fong, Vice President, (Qualifying Individual).

The Scoular Company dba TSC Container Freight, 250 Marquette Ave., Minneapolis, MN 55401, Officer: John A. Messerich, Vice President, (Qualifying Individual).

Global Galan Logistics, Inc., 3132 SW 173rd Terrace, Miramar, FL 33029, Officer: George A. Galan, President, (Qualifying Individual).

MJS Trading, Inc., 13350 NW 42nd Ave., Suite 13, Opa Locka, FL 33054, Officer: Emilia V. Vilianueva, President, (Qualifying Individual).

Astral Freight Services, Inc., 1418 NW 82nd Ave., Doral, FL 33126, Officer: Nay Lessa, Vice President, (Qualifying Individual).

Freightplus (USA), Inc., 4466 Karls Gate Drive, Marietta, GA 30068, Officer: Christopher J. Katcher, Secretary, (Qualifying Individual).

Forman Shipping U.S.A. Inc. dba SDS Trans, 145-38 157th Street, 1st Floor, Jamaica, NY 11434, Officer: Si Yualan, President, (Qualifying Individual).

Doma Consolidating Inc. dba Doma Shipping, 2520 S. State Street, Chicago, IL 60616, Officer: Mina A. Georgalas, President, (Qualifying Individual).

Maritime and Intermodal Logistics Systems, Inc., dba MLS Fesco Logistics, 1000 Second Ave., Seattle, WA 98104, Officer: Junko Altman, Secretary, (Qualifying Individual).

Dated: February 20, 2009.
Tanga S. FitzGibbon,
Assistant Secretary.

[FR Doc. E9-4059 Filed 2-24-09; 8:45 am]

BILLING CODE 6730-01-P